DEPARTMENT OF TRANSPORTATION

Federal Aviation Administration

Seat Certification Process Simplification

AGENCY: Federal Aviation Administration (FAA), DOT.

ACTION: Notice of public meeting.

SUMMARY: This notice announces a public meeting which is being held by the Federal Aviation Administration (FAA) to present its reviews and hear comments from the public concerning issues relating to simplification of the seat certification process in transport category airplanes.

DATES: The meeting will be held in Seattle, Washington, on March 7, 2002, beginning at 8:30 a.m.

REGISTRATION: Registration will begin at approximately 7:30 a.m. on Thursday, March 7, 2002. Persons planning to attend the meeting are encouraged to pre-register by contacting the person identified later in this notice as the contact for further information.

ADDRESSES: The meeting will be held at the Doubletree Hotel Seattle Airport, 18740 Pacific Highway South, Seattle, WA 98188, telephone (206) 246-8600. A block of guest rooms has been reserved for the meeting at the Doubletree Hotel at a group rate. This block of rooms will be held until February 15, 2002. Persons planning on attending the meeting should contact the hotel directly for reservations and identify themselves as participants in the FAA Public Technical Conference to receive the special room rate.

FOR FURTHER INFORMATION CONTACT: Jeff Gardlin, FAA, Regulations Branch, ANM-115, Transport Airplane Directorate, Aircraft Certification Service, 1601 Lind Avenue SW., Renton, WA 98055-4056; telephone (425) 227-2136; facsimile (425) 227-1149.

SUPPLEMENTARY INFORMATION: Section 757 of Public Law 106-81, The Wendel H. Ford Aviation Investment and Reform Act for the 21st Century, required the FAA to establish a government-industry team to simplify the seat certification process in transport category airplanes. The FAA established this team and has been working for over a year to improve and simplify the process of seat certification in accordance with the Act.

The purpose of this meeting is to present information to the public regarding simplification of the seat certification process, and to hear comments and to solicit input from the general public.

Participation at the Meeting

If you wish to present any oral statements at the public meeting, you should submit your request to the FAA prior to February 15, 2002. Such requests should be submitted to the persons listed under the heading FOR FURTHER INFORMATION CONTACT and should include a written summary of oral remarks to be presented, as well as an estimate of time needed for the presentation. Requests received after February 15, 2002, will be considered and may be scheduled, time permitting, during the meeting. The FAA will prepare an agenda of speakers who will be available at the meeting. Every effort will be made to accommodate as many speakers as possible in the time allotted.

Meeting Procedures

The following procedures are established to facilitate the meeting:

• Attendance is open to the public, but will be limited to the space available.

• There will be no admission fee or other charge to attend or participate in the meeting. The opportunity to speak will be available to all persons, subject to availability of time.

• The meeting is designed to provide information to, and hear comments from, the public concerning issues related to seat certification process simplification. The meeting will be conducted in an informal and nonadversarial manner; however, the FAA may ask questions to clarify a statement and to ensure a complete and accurate record.

• Representatives of the FAA will preside over the meeting. A panel of FAA personnel involved in this issue will be present.

• Statements made by members of the meeting panel are intended to facilitate discussion of the issues or to clarify issues and, unless stated as such, should not necessarily be construed as a position of the FAA.

• An individual, whether speaking in person or in a representative capacity on behalf of an organization, may be limited to a 10-minute statement. If possible, additional time may be allotted.

• The FAA will try to accommodate all questions, time permitting. However, the FAA reserves the right to exclude some questions, if necessary, to present a balance of viewpoints and issues.

• The FAA will review and consider all material presented by participants at the meeting. Participants are requested to provide 10 copies of all presentation materials for distribution to the panel members. Other copies may be provided to the audience at the discretion of the participant.

• The meeting will be recorded by a court reporter. A transcript of the meeting and any material accepted by the panel during the meeting will be made a part of the official record. Any person interested in purchasing a copy of the transcript should contact the court reporter directly at the meeting.

Issued in Renton, WA, on January 28, 2002.
Ali Bahrami,
Acting Manager, Transport Airplane Directorate, Aircraft Certification Service.

[FR Doc. 02-2632 Filed 2-1-02; 8:45 am]

BILLING CODE 4910-13-M